DEPARTMENT OF TRANSPORTATION

Federal Motor Carrier Safety Administration

[Docket No. FMCSA-2023-0143]

Truck Leasing Task Force (TLTF): Notice of Rescheduled Public Meeting

AGENCY: Federal Motor Carrier Safety Administration (FMCSA), Department of Transportation (DOT).

ACTION: Notice of a rescheduled meeting of the TLTF.

SUMMARY: FMCSA announces that the public meeting of the TLTF previously scheduled for Wednesday, November 20, 2024, is rescheduled for Tuesday, December 3, 2024.

DATES: The meeting will be held on Tuesday, December 3, 2024, from 10 a.m. to 4 p.m. ET. Requests for accommodations for a disability and requests to submit written materials for consideration during the meeting must be received no later than Friday, November 22, respectively.

ADDRESSES: The meeting will be virtual for its entirety. Please register in advance of the meeting at www.fmcsa.dot.gov/tltf. A copy of the agenda for each meeting will be made available at www.fmcsa.dot.gov/tltf 1 week in advance of each meeting. Once approved, copies of the meeting minutes will be available at the website following each meeting. You may visit the TLTF website at www.fmcsa.dot.gov/tltf for further information on the committee and its activities.

FOR FURTHER INFORMATION CONTACT: Ms. Shannon L. Watson, Deputy Designated Federal Officer, TLTF, FMCSA, 1200 New Jersey Avenue SE, Washington, DC 20590, (202) 360-2925, tltf@dot.gov. Any committee-related request should be sent to the person listed in this section.

SUPPLEMENTARY INFORMATION:

I. Background

Section 23009 of the Bipartisan Infrastructure Law (BIL) (Pub. L. 117-58) requires the Federal Motor Carrier Safety Administration (FMCSA) to establish the TLTF, which was set up in accordance with the Federal Advisory Committee Act (FACA), Public Law 92-463 (1972). TLTF will examine the terms, conditions, and equitability of common truck leasing arrangements, particularly as they impact owner-operators and trucking businesses subject to such agreements and submit a report on the task force's identified issues and conclusions regarding truck leasing arrangements, including recommended best practices, to the Secretary, the Secretary of Labor, and the appropriate committees of Congress. TLTF will work in coordination with the United States Department of Labor.

TLTF operates in accordance with FACA under the terms of the TLTF charter, filed February 11, 2022, and amended April 28, 2023, and renewed February 9, 2024.

II. Agenda

• The final report of the Consumer Financial Protection Bureau on its analysis of the leases submitted to FMCSA and their implications on predatory leasing of trucks to drivers of commercial motor vehicles;

• A presentation from the Drafting Subcommittee on recommendations for TLTF's final report to FMCSA outlining its recommendations on truck leasing agreements and TLTF's consideration of these recommendations; and

• A public comment period that will allow drivers and lessees of CMVs to share their personal experiences with leases and present any supporting information they would like to share to assist TLTF in making recommendations on such agreements.

III. Public Participation

The meeting will be open to the public via virtual platform. Advance registration via the website (www.fmcsa.dot.gov/tltf) is required by Friday, November 22, 2024.

DOT is committed to providing equal access to this meeting for all participants. If you need alternative formats or services due to a disability, such as sign language interpretation or other ancillary aids, please contact the person listed in the FOR FURTHER INFORMATION CONTACT section by Friday, November 22.

Oral comments from the public will be heard during the designated comment period at the discretion of the TLTF chair and Designated Federal Officer. To accommodate as many speakers as possible, the time for each commenter will be limited to 2 minutes. Speakers may submit a written copy of their remarks for inclusion in the meeting records and for circulation to TLTF members. All prepared remarks submitted on time will be accepted and considered as part of the record. Any member of the public may present a written statement to the committee at any time.

Larry W. Minor,
Associate Administrator for Policy.

[FR Doc. 2024-26218 Filed 11-12-24; 8:45 am]

BILLING CODE 4910-EX-P